DEPARTMENT OF HOMELAND SECURITY

Federal Emergency Management Agency

[Docket ID FEMA-2014-0022]

Technical Mapping Advisory Council

AGENCY: Federal Emergency Management Agency, DHS.

ACTION: Committee Management; notice of rescheduled Federal Advisory Committee meeting.

SUMMARY: The Federal Emergency Management Agency (FEMA) Technical Mapping Advisory Council (TMAC) teleconference meeting scheduled for September 13 and 14, 2016 is rescheduled for September 23 and 26, 2016. FEMA previously published a notice announcing this meeting in the Federal Register on July 27, 2016 at 81 FR 49235.

DATES: The rescheduled TMAC meeting will be held on Friday, September 23, 2016, from 10:00 a.m. to 5:00 p.m. Eastern Daylight Time (EDT) and on Monday, September 26 from 10:00 a.m. to 5:00 p.m. Eastern Daylight Time (EDT).

ADDRESSES: The rescheduled TMAC meeting will be held via conference call.

Written comments concerning this rescheduled TMAC meeting may be submitted by one of the following methods and should be identified by Docket ID FEMA-2014-0022.

• Federal eRulemaking Portal: http://www.regulations.gov. Follow the instructions for submitting comments.

• Email: Address the email TO: FEMA-RULES@fema.dhs.gov and CC: FEMA-TMAC@fema.dhs.gov. Include the docket number in the subject line of the message. Include name and contact detail in the body of the email.

• Mail: Regulatory Affairs Division, Office of Chief Counsel, FEMA, 500 C Street SW., Room 8NE, Washington, DC 20472-3100.

Instructions: All submissions received must include the words “Federal Emergency Management Agency” and the docket number for this action. Comments received will be posted without alteration at http://www.regulations.gov, including any personal information provided.

Docket: For access to the docket to read comments received by the TMAC, go to http://www.regulations.gov, and search for the Docket ID FEMA-2014-0022.

FOR FURTHER INFORMATION CONTACT: Kathleen Boyer, Designated Federal Officer for the TMAC, FEMA, 500 C St SW., Washington, DC 20024, telephone (202) 646-4023, and email kathleen.boyer@fema.dhs.gov. The TMAC Web site is: http://www.fema.gov/TMAC.

Dated: August 26, 2016.
Roy E. Wright,
Deputy Associate Administrator for Insurance and Mitigation, Federal Emergency Management Agency.

[FR Doc. 2016-21376 Filed 9-6-16; 8:45 am]

BILLING CODE 9110-12-P